DEPARTMENT OF COMMERCE

Foreign-Trade Zones Board

[S-131-2020]

Approval of Subzone Status; Childers Guns, LLC, Fairmont, West Virginia

On July 29, 2020, the Executive Secretary of the Foreign-Trade Zones (FTZ) Board docketed an application submitted by the West Virginia Economic Development Authority, grantee of FTZ 229, requesting subzone status subject to the existing activation limit of FTZ 229, on behalf of Childers Guns, LLC, in Fairmont, West Virginia.

The application was processed in accordance with the FTZ Act and Regulations, including notice in the Federal Register inviting public comment (85 FR 47165, August 4, 2020). The FTZ staff examiner reviewed the application and determined that it meets the criteria for approval. Pursuant to the authority delegated to the FTZ Board Executive Secretary (15 CFR 400.36(f)), the application to establish Subzone 229D was approved on October 29, 2020, subject to the FTZ Act and the Board's regulations, including Section 400.13, and further subject to FTZ 229's 2,000-acre activation limit.

Dated: October 29, 2020.
Andrew McGilvray,
Executive Secretary.

[FR Doc. 2020-24420 Filed 11-3-20; 8:45 am]

BILLING CODE 3510-DS-P